Proclamation 9714 of March 29, 2018

National Child Abuse Prevention Month, 2018

By the President of the United States of America

A Proclamation

Every child is a precious and unique gift who deserves the security of a loving and nurturing home. When supported by encouraging families and safe, strong communities, all children have the chance to reach their full potential and access the unlimited opportunities that our great Nation has to offer. To realize this truth, we must dedicate ourselves to the noble cause of protecting and caring for our children.

National Child Abuse Prevention Month is an annual reminder that not every home is a haven of acceptance and unconditional love. Too often, childhood is marred with pain, violence, neglect, and abuse, which can have lifelong psychological, emotional, and physical consequences. At no fault of their own, some children are subjected to the most depraved forms of child abuse and neglect, without reprieve and, sometimes, without any knowledge that they are being maltreated. The statistics are shocking: a quarter of all children experience some form of child abuse or neglect in their lifetime. The financial consequences of this depravity are dire. By some estimates, the lifetime cost of child abuse and neglect is $124 billion per year. The human cost—measured in lost development, potential, and flourishing—is incalculable.

To improve the statistics and the well-being of our Nation's children, we must become more aware of the signs and symptoms of child abuse and take action as necessary. We should not allow pride or discomfort to prevent us from helping a child who is truly suffering. We must be a Nation committed to taking action in the face of adversity and uncertainty, particularly when done to enhance the safety or security of children.

The Child Welfare Information Gateway (CWIG) notes that children who show sudden changes in behavior, who have not received treatment for physical or medical problems brought to their parents' attention, or who are always watchful, as if preparing for something bad to happen, may be exhibiting signs of child abuse. Though the presence of one or some of these signs alone does not necessarily mean that a child has been the victim of child abuse or neglect, it is vital that we understand and remain vigilant for these indicators. As Americans we must do all that we can.

This month, we honor the professionals, volunteers, and organizations who work tirelessly to protect at-risk children and care for those who have experienced abuse or neglect. This difficult work is critical to ensuring the safety and protection of our children, to strengthening our communities, and to stopping cycles of violence harm. There are no substitutes for caring parents and guardians. But we recognize that friends, neighbors, educators, and places of worship have important roles to play in fostering the well-being of children. We are especially grateful to foster and adoptive parents, who open their lives to children in need of loving and caring homes. We can and should continue to work together to help provide healthy, happy, and safe environments for all children.

We must always remember that all children are blessings from our Creator. They are endowed from conception with value, purpose, and human dignity. They are a source of unmatched joy, and they represent our Nation's future. It is thus our civic and moral responsibility to help every child experience a childhood free from abuse and mistreatment, guiding them toward a future full of hope and promise. I encourage all Americans to nurture the children in their lives and to extend a hand to those in need of love, protection, or even just attention. Only together can we put an end to the tragedy of child abuse and neglect. I am confident that our combined efforts in combatting these evils will help create a world that is more tender, compassionate, and inviting to our children for centuries to come.

NOW, THEREFORE, I, DONALD J. TRUMP, President of the United States of America, by virtue of the authority vested in me by the Constitution and the laws of the United States, do hereby proclaim April 2018 as National Child Abuse Prevention Month. I call upon all Americans to invest in the lives of our Nation's children, to be aware of their safety and well-being, and to support efforts that promote their psychological, physical, and emotional development.

IN WITNESS WHEREOF, I have hereunto set my hand this twenty-ninth day of March, in the year of our Lord two thousand eighteen, and of the Independence of the United States of America the two hundred and forty-second.

[FR Doc. 2018-06922

Filed 4-2-18; 11:15 am]

Billing code 3295-F8-P